DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Doug Bellomo, P.E. Hazard Identification Section, Emergency Preparedness and Response Directorate, Federal Emergency Management Agency, 500 C Street SW., Washington, DC 20472, (202) 646-2903.

SUPPLEMENTARY INFORMATION: The Federal Emergency Management Agency makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR Part 67.

FEMA has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD).
CALIFORNIA
San Luis Obispo County, (FEMA Docket No. B-7435)
Los Berros Creek:
Approximately 750 feet downstream of El Conpo Road | *103
Approximately 4,000 feet downstream of State Route 101 | None
Approximately 1,200 feet upstream of State Route 101 | None
Maps are available for inspection at the San Luis Obispo County Public Works Department, County Government Center, Room 207, 976 Osos Street, San Luis Obispo, California.

Source of flooding and location | #Depth in feet above ground. *Elevation in feet (NGVD) +Elevation in feet (NAVD). | Communities affected
Washington:
Whatcom County and Incorporated Areas, (FEMA Docket No. B-7310)
Johnson Creek:
At the confluence with Sumas River | *38 | Whatcom County (Uninc. Areas), City of Bellingham, City of Everson, City of Ferndale, City of Lummi Indian Nation, City of Lynden, City of Nooksack, and City of Sumas
Samish River:
Approximately 2,900 feet downstream of Wickersham Road at the County Boundary | *267
At Burlington Northern Railroad | *311
Squalicum Creek:
Approximately 200 feet upstream of Chicago, Milwaukee, St. Paul, and Pacific Railroad | *127
Approximately 2,000 feet upstream of Dewey Road | *206
Sumas River:
Approximately 1,700 feet downstream of Jones Road at the International Boundary | *34 | Whatcom County (Uninc. Areas), City of Bellingham, City of Everson, City of Ferndale, City of Lummi Indian Nation, City of Lynden, City of Nooksack, and City of Sumas
Approximately 1,000 feet upstream of Massey Road | *93
Sumas River Left Overbank Divided Flow:
Approximately 200 feet downstream of Telegraph Road | *56
Approximately 6,300 feet upstream of Kadin Road | *69
Terrell Creek:
Approximately 500 feet downstream of Alderson Road | *8
At Helweg Road | *10
Addresses:
Whatcom County (Unincorporated Areas):
Maps are available for inspection at Whatcom County Public Works Department, Division of Engineering, 311 Grand Avenue, Suite 108, Bellingham, Washington.
City of Bellingham:
Maps are available for inspection at the Community Development Department, 210 Lottie Street, Bellingham, Washington.
City of Everson:
Maps are available for inspection at City Hall, 111 West Main Street, Everson, Washington.
City of Ferndale:
Maps are available for inspection at the Planning Department, 5694 Second Avenue, Ferndale, Washington.
City of Lummi Indian Nation:
Maps are available for inspection at the Planning Department, 2828 Kwina Road, Bellingham, Washington.
City of Lynden:
Maps are available for inspection at the Planning Department, 323 Front Street, Lynden, Washington.
City of Nooksack:
Maps are available for inspection at City Hall, 103 West Madison Street, Nooksack, Washington 98276.
City of Sumas:
Maps are available for inspection at City Hall, 433 Cherry Street, Sumas, Washington.
Washington:
Whatcom County and Incorporated Areas, (FEMA Docket No. B-7430) |  |
Strait of Georgia at Point Roberts: |  | Whatcom County
At Point Roberts Marina | *8 | (Uninc. Areas)
South Edwards Drive along Southern Shore | *11
Birch Bay Northwest Shore:
At intersection of Seahome Road and Seahome Court | *8 | Whatcom County (Uninc. Areas)
At Cottonwood Beach | *9
Along shoreline near intersection of Halda Road and Nitinat Road | *14
Strait of Georgia at Sandy Point:
At marina | *8 | Whatcom County (Uninc. Areas) and Lummi Indian Reservation
Along eastern shoreline | *9
Along western shoreline, west of marina | *14
Strait of Georgia at Village Point:
Along West Shore Drive | *9 | Whatcom County (Uninc. Areas)
Along southern shoreline | *10
Lummi Bay:
Approximately 600 feet from intersection of East Turtle Lane and Shore Drive | *8 | Whatcom County (Uninc. Areas)
Along shoreline near intersection of Lummi Park Road and Lane Split Road | *10
Bellingham Bay at Hermosa Beach:
East of Lummi Shore Road | *8 | Whatcom County (Uninc. Areas) and Lummi Indian Reservation
Lummi Bay at Gooseberry Point:
At intersection of Lummi View Drive and Haxton Way | *8 | Whatcom County (Uninc. Areas) and Lummi Indian Reservation
Approximately 300 feet west of intersection of Lummi View Drive and Haxton Way | *9
Bellingham Bay at Eliza Island:
In the south-facing valley of Eliza Island | *8 | Whatcom County (Uninc. Areas)
At the southern shore of Eliza Island | *10
At the western shore of Eliza Island | *10
Addresses:
Whatcom County (Unincorporated Areas):
Maps are available for inspection at Whatcom County Public Works Department, Division of Engineering, 311 Grand Avenue, Suite 108, Bellingham, Washington.
Lummi Indian Reservation:
Maps are available for inspection at the Lummi Indian Business Council Planning Department, 2828 Kwina Road, Bellingham, Washington.

(Catalog of Federal Domestic Assistance No. 83.100, “Flood Insurance”)
Dated: September 30, 2003.
Anthony S. Lowe,
Mitigation Division Director, Emergency Preparedness and Response Directorate.

[FR Doc. 03-25345 Filed 10-6-03; 8:45 am]

BILLING CODE 6718-04-P